NUCLEAR REGULATORY COMMISSION

Agency Information Collection Activities: Submission for the Office of Management and Budget (OMB) Review; Comment Request

AGENCY: U. S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: NRC Form 445, Request For Approval of Official Foreign Travel.

3. The form number if applicable: NRC Form 445.

4. How often the collection is required: On occasion.

5. Who will be required or asked to report: Non-Federal consultants, contractors and NRC invited travelers (i.e., non-NRC employees).

6. An estimate of the number of responses: 200.

7. The estimated number of annual respondents: 200.

8. An estimate of the total number of hours needed annually to complete the requirement or request: 200.

9. An indication of whether Section 3507(d), Pub. L. 104-13 applies: N/A.

10. Abstract: Form 445, “Request for Approval of Foreign Travel,” is supplied by consultants, contractors, and NRC invited travelers who must travel to foreign countries in the course of conducting business for the NRC. In accordance with 48 CFR 20, “NRC Acquisition Regulation,” contractors traveling to foreign countries are required to complete this form. The information requested includes the name of the Office Director/Regional Administrator recommending travel, approved by the Office Director, Regional Administrator or Chairman, as appropriate, the traveler's identifying information, purpose of travel, a listing of the trip coordinators, other NRC travelers and contractors attending the same meeting, and a proposed itinerary.

A copy of the final supporting statement may be viewed free of charge at the NRC Public Document Room, One White Flint North, 11555 Rockville Pike, Room O-1 F23, Rockville, MD 20852. OMB clearance requests are available at the NRC worldwide web site: http://www.nrc.gov/public-involve/doc-comment/omb/index.html. The document will be available on the NRC home page site for 60 days after the signature date of this notice.

Comments and questions should be directed to the OMB reviewer listed below by July 18, 2002. Comments received after this date will be considered if it is practical to do so, but assurance of consideration cannot be given to comments received after this date. Bryon Allen, Office of Information and Regulatory Affairs (3150-0193), NEOB-10202, Office of Management and Budget, Washington, DC 20503.

Comments can also be submitted by telephone at (202) 395-3087.

The NRC Clearance Officer is Brenda Jo. Shelton, 301-415-7233.

Dated at Rockville, Maryland, this 12th day of June, 2002.
For the Nuclear Regulatory Commission.
Brenda Jo. Shelton,
NRC Clearance Officer, Office of the Chief Information Officer.

[FR Doc. 02-15286 Filed 6-17-02; 8:45 am]

BILLING CODE 7590-01-P